DEPARTMENT OF TRANSPORTATION

Federal Aviation Administration

14 CFR Part 39

[Docket No. FAA-2012-0110; Directorate Identifier 2011-NM-148-AD; Amendment 39-17034; AD 2012-08-17]

RIN 2120-AA64

Airworthiness Directives; The Boeing Company Airplanes

AGENCY: Federal Aviation Administration (FAA), DOT.

ACTION: Final rule.

SUMMARY: We are adopting a new airworthiness directive (AD) for certain The Boeing Company Model 737-100, -200, -200C, -300, -400, and -500 series airplanes equipped with analog transient suppression devices (ATSDs) installed in accordance with Supplemental Type Certificate ST00146BO. This AD was prompted by multiple reports of corrosion on ATSDs. This AD requires revising the maintenance program to incorporate certain limitations. We are issuing this AD to detect and correct corrosion on ATSDs, which could result in the loss of high voltage transient protection (e.g., lightning protection) in the fuel tanks and consequent fuel tank explosion and loss of the airplane.

DATES: This AD is effective May 31, 2012.

The Director of the Federal Register approved the incorporation by reference of a certain publication listed in the AD as of May 31, 2012.

ADDRESSES: For service information identified in this AD, contact Goodrich Corporation, Sensors and Integrated Systems, 100 Panton Road, Vergennes, Vermont 05491; phone: 802-877-4580; fax: 802-877-4444; email: les.blades@goodrich.com; Internet: http://www.goodrich.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Marc Ronell, Aerospace Engineer, Engine and Propeller Directorate, ANE-150, FAA, New England Aircraft Certification Office (ACO), 12 New England Executive Park, Burlington, Massachusetts 01803; phone: 781-238-7776; fax: 781-238-7170; email: marc.ronell@faa.gov.

SUPPLEMENTARY INFORMATION:

Discussion

We issued a notice of proposed rulemaking (NPRM) to amend 14 CFR part 39 to include an AD that would apply to the specified products. That NPRM was published in the Federal Register on February 9, 2012 (77 FR 6692). That NPRM proposed to require revising the maintenance program to incorporate certain limitations.

Comments

We gave the public the opportunity to participate in developing this AD. We received no comments on the NPRM (77 FR 6692, February 9, 2012) or on the determination of the cost to the public.

Changes Made to This AD

We have redesignated Note 1 of the NPRM (77 FR 6692, February 9, 2012) as paragraph (c)(2) of this AD and redesignated subsequent notes accordingly, and redesignated paragraph (c) of the NPRM as paragraph (c)(1) of this AD.

Conclusion

We reviewed the relevant data and determined that air safety and the public interest require adopting the AD with the changes described previously and minor editorial changes. We have determined that these minor changes:

• Are consistent with the intent that was proposed in the NPRM (77 FR 6692, February 9, 2012) for correcting the unsafe condition; and

• Do not add any additional burden upon the public than was already proposed in the NPRM (77 FR 6692, February 9, 2012).

We also determined that these changes will not increase the economic burden on any operator or increase the scope of the AD.

Costs of Compliance

We estimate that this AD affects 384 airplanes of U.S. registry.

We estimate the following costs to comply with this AD:

Estimated Costs
Action | Labor cost | Parts cost | Cost per product | Cost on U.S. operators
Revise maintenance program | 1 work-hour × $85 per hour = $85 | $0 | $85 | $32,640

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-08-17 The Boeing Company: Amendment 39-17034; Docket No. FAA-2012-0110; Directorate Identifier 2011-NM-148-AD.

(a) Effective Date

This AD is effective May 31, 2012.

(b) Affected ADs

None.

(c) Applicability

(1) This AD applies to The Boeing Company Model 737-100, -200, -200C, -300, -400, and -500 series airplanes, certificated in any category, with an original airworthiness certificate or original export certificate of airworthiness issued before September 26, 2011, equipped with analog transient suppression devices (ATSDs) installed in accordance with Supplemental Type Certificate ST00146BO. http://rgl.faa.gov/Regulatory_and_Guidance_Library/rgstc.nsf/0/2399C433BB10CF1085256CCB00601A12?OpenDocument&Highlight=st00146bo

(2) This AD requires revisions to certain operator maintenance documents to include new actions (e.g., inspections and/or Critical Design Configuration Control Limitations (CDCCLs). Compliance with these actions is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (i) of this AD. The request should include a description of changes to the required actions that will ensure the continued operational safety of the airplane.

(d) Subject

Joint Aircraft System Component (JASC)/Air Transport Association (ATA) of America Code 2841, Fuel Quantity Indicator.

(e) Unsafe Condition

This AD was prompted by multiple reports of corrosion on ATSDs. We are issuing this AD to detect and correct corrosion on ATSDs, which could result in the loss of high voltage transient protection (e.g., lightning protection) in the fuel tanks and consequent fuel tank explosion and loss of the airplane.

(f) Compliance

Comply with this AD within the compliance times specified, unless already done.

(g) Maintenance Program Revision

Within 3 months after the effective date of this AD, revise the maintenance program to incorporate the limitations specified in Goodrich Principal Instructions for Continued Airworthiness Manual for the Analog Transient Suppression Device Installation Applicable to Boeing 737-100 through -500 Airplanes Supplemental Type Certificate—ST00146BO, Document T3044-0010-0101, Revision D, dated September 26, 2011. The initial compliance time for accomplishing each task is at the applicable time specified in Goodrich Principal Instructions for Continued Airworthiness Manual for the Analog Transient Suppression Device Installation Applicable to Boeing 737-100 through -500 Airplanes Supplemental Type Certificate—ST00146BO, Document T3044-0010-0101, Revision D, dated September 26, 2011, or within 18 months after the effective date of this AD, whichever occurs later.

Note 1 to paragraph (g) of this AD: Components that have been identified as airworthy or installed on the affected airplanes before the revision of the maintenance program, as required by paragraph (g) of this AD, do not need to be reworked in accordance with the CDCCLs. However, once the maintenance program has been revised, paragraph (g) of this AD requires that future maintenance actions on these components must follow the CDCCLs.

(h) No Alternative Actions Intervals, and/or Critical Design Configuration Control Limitations

After accomplishing the revision required by paragraph (g) of this AD, no alternative actions (e.g., inspections), intervals, and/or CDCCLs may be used other than those specified in Goodrich Principal Instructions for Continued Airworthiness Manual for the Analog Transient Suppression Device Installation Applicable to Boeing 737-100 through -500 Airplanes Supplemental Type Certificate—ST00146BO, Document

T3044-0010-0101, Revision D, dated September 26, 2011, unless the actions, intervals, and/or CDCCLs are approved as an AMOC in accordance with the procedures specified in paragraph (i) of this AD.

(i) Alternative Methods of Compliance

(1) The Manager, Boston Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

For more information about this AD, contact Marc Ronell, Aerospace Engineer, Engine and Propeller Directorate, ANE-150, FAA, New England Aircraft Certification Office, 12 New England Executive Park, Burlington, Massachusetts 01803; phone: 781-238-7776; fax: 781-238-7170; email: marc.ronell@faa.gov.

(k) Material Incorporated by Reference

(1) You must use the following service information to do the actions required by this AD, unless the AD specifies otherwise. The Director of the Federal Register approved the incorporation by reference (IBR) of the following service information under 5 U.S.C. 552(a) and 1 CFR part 51.

(i) Goodrich Principal Instructions for Continued Airworthiness Manual for the Analog Transient Suppression Device Installation Applicable to Boeing 737-100 through -500 Airplanes Supplemental Type Certificate—ST00146BO, Document T3044-0010-0101, Revision D, dated September 26, 2011.

(2) For service information identified in this AD, Goodrich Corporation, Sensors and Integrated Systems, 100 Panton Road, Vergennes, Vermont 05491; phone: 802-877-4580; fax: 802-877-4444; email: les.blades@goodrich.com; Internet: http://www.goodrich.com/TechPubs.

(3) You may review copies of the referenced service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr-locations.html.

Issued in Renton, Washington, on April 13, 2012.
John P. Piccola,
Acting Manager, Transport Airplane Directorate, Aircraft Certification Service.

[FR Doc. 2012-9713 Filed 4-25-12; 8:45 am]

BILLING CODE 4910-13-P